DEPARTMENT OF DEFENSE

Office of the Secretary

[Transmittal No. 22-31]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 22-31 with attached Policy Justification.

Dated: June 2, 2024.
Aaron T. Siegel,
Alternate OSD Federal Register Liaison Officer, Department of Defense.

BILLING CODE 6001-FR-P

BILLING CODE 6001-FR-C

Transmittal No. 22-31

Notice of Proposed Issuance of Letter of Offer Pursuant to Section 36(b)(1) of the Arms Export Control Act, as amended

(i) Prospective Purchaser: Taipei Economic and Cultural Representative Office in the United States (TECRO)

(ii) Total Estimated Value:

Major Defense Equipment * | $ 0 million
Other | $108 million
TOTAL | $108 million

Funding Source: National Funds

(iii) Description and Quantity or Quantities of Articles or Services under Consideration for Purchase:

Major Defense Equipment (MDE):

None

Non-MDE:

Blanket Order Contractor Technical Assistance support consisting of unclassified spare and repair parts and assembly for tanks and combat vehicles; logistical technical assistance; U.S. Government and contractor representative technical and logistical support; and other related elements of logistical and program support.

(iv) Military Department: Army (TW-B-BER)

(v) Prior Related Cases, if any: TW-B-BEM

(vi) Sales Commission, Fee, etc., Paid, Offered, or Agreed to be Paid: None

(vii) Sensitivity of Technology Contained in the Defense Article or Defense Services Proposed to be Sold: None

(viii) Date Report Delivered to Congress: July 15, 2022

* As defined in Section 47(6) of the Arms Export Control Act.

POLICY JUSTIFICATION

Taipei Economic and Cultural Representative Office in the United States (TECRO)—Blanket Order Contractor Technical Assistance Support

The TECRO has requested to buy Blanket Order Contractor Technical Assistance support consisting of unclassified spare and repair parts and assembly for tanks and combat vehicles; logistical technical assistance; U.S. Government and contractor representative technical and logistical support; and other related elements of logistical and program support. The estimated total cost is $108 million.

This proposed sale is consistent with U.S. law and policy as expressed in Public Law 96-8.

This proposed sale serves U.S. national, economic, and security interests by supporting the recipient's continuing efforts to modernize its armed forces and to maintain a credible defensive capability. The proposed sale will help improve the security of the recipient and assist in maintaining political stability, military balance, economic and progress in the region.

The proposed sale will contribute to the sustainment of the recipient's vehicles, small arms, combat weapon systems, and logistical support items, enhancing its ability to meet current and future threats. The proposed sale will contribute to the recipient's goal of maintaining its military capability while further enhancing interoperability with the United States and other allies. The recipient will have no difficulty absorbing this equipment and support into its armed forces.

The proposed sale of this equipment and support will not alter the basic military balance in the region.

The principal contractor(s) will be determined from approved vendors determined by the Defense Logistics Agency to provide these parts for the U.S. military. There are no known offset agreements proposed in connection with this potential sale.

Implementation of this proposed sale will not require the assignment of any additional U.S. Government or contractor representatives to the recipient.

There will be no adverse impact on U.S. defense readiness as a result of this proposed sale.

POLICY JUSTIFICATION

NATO Support and Procurement Agency (NSPA)—Precision Guided Munitions

NATO Support and Procurement Agency as Lead Nation has requested the possible sale of two hundred thirty-nine (239) GBU-39/B Small Diameter Bombs, Increment I; two hundred four (204) FMU-152 fuzes; two hundred four (204) MK-82 500LB General Purpose Bombs; and fifty (50) BLU-109 2000LB Hard Target Penetrator Bombs, that will be added to a previously implemented case. The original FMS case, valued at $1.87 million, included forty (40) GBU-39/B Small Diameter Bombs, Increment I. Therefore, this notification is for a total of two hundred seventy-nine (279) GBU-39/B Small Diameter Bombs, Increment I; two hundred four (204) FMU-152 fuzes; two hundred four (204) MK-82 500LB General Purpose Bombs; and fifty (50) BLU-109 2000LB Hard Target Penetrator Bombs. Also included are smoke signal cartridges; engineering and technical support and assistance; and other related elements of logistical and program support. The total estimated cost is $22.7 million.

This proposed sale supports the foreign policy and national security of the United States by increasing the flexibility of Belgium, Czech Republic, Denmark, Finland, Greece, Hungary, Italy, the Netherlands, Norway, Poland, Portugal, Spain, and the United Kingdom, twelve NATO nations and one NATO enhanced opportunity partner nation, to contribute to overseas contingency operations. This sale increases the quantity of precision-guided munitions within NATO and allows for their pre-coordinated transfer in support of national and NATO requirements.

The proposed sale will improve NATO's capability to meet current and future ground threats with precision. NATO will use the enhanced capability as a deterrent to regional threats, and to increase interoperability within contingency operations. Many of the purchasing nations already have precision-guided munitions in their inventories and will all have no difficulty absorbing these munitions into its armed forces.

The proposed sale of this equipment and support will not alter the basic military balance in the region.

The principal contractors for production are the Boeing Corporation, St Louis, MO; and Raytheon Missile Systems, Tucson, AZ. The principal contractor for integration is unknown and will be determined during contract negotiations. There are no known offset agreements proposed in connection with this potential sale.

Implementation of this proposed sale will not require the assignment of any additional U.S. Government or contractor representatives to NATO.

There will be no adverse impact on U.S. defense readiness as a result of this proposed sale.

[FR Doc. 2024-12390 Filed 6-5-24; 8:45 am]

BILLING CODE 6001-FR-P